DEPARTMENT OF TRANSPORTATION

Federal Aviation Administration

14 CFR Part 13

RIN 2105-AF12

Revisions to Civil Penalty Amounts; Correction

AGENCY: Federal Aviation Administration (FAA), Department of Transportation (DOT or the Department).

ACTION: Correcting amendments.

SUMMARY: In accordance with the Federal Civil Penalties Inflation Adjustment Act Improvements Act of 2015, DOT published a final rule on January 6, 2023, to provide the 2023 inflation adjustment to civil penalty amounts that may be imposed for violations of certain DOT regulations. This rule corrects errors in that rulemaking by making the statutorily required adjustment to an unadjusted FAA penalty and updating a table heading.

DATES: Effective February 2, 2023.

FOR FURTHER INFORMATION CONTACT: Elizabeth Kohl, Attorney-Advisor, Office of the General Counsel, U.S. Department of Transportation, 1200 New Jersey Ave. SE, Washington, DC 20590, elizabeth.kohl@dot.gov.

SUPPLEMENTARY INFORMATION: This rule corrects errors in DOT's final rule, published on January 6, 2023 (88 FR 1114), in accordance with the Federal Civil Penalties Inflation Adjustment Act Improvements Act of 2015, providing the 2023 inflation adjustment to civil penalty amounts that may be imposed for violations of certain DOT regulations. Specifically, the final rule specified the updated applicable minimum penalty for violation of hazardous materials transportation law relating to training in 49 U.S.C. 5123(a)(3) of $582 (and the prior year's penalty of $540) in the preamble of the final rule, but the penalty specified in the regulatory text was not updated and remained as $540 (the prior year's penalty also remained unadjusted at $508). In addition, a table heading in Table 1 to § 13.301 was not updated from “2021 Minimum penalty amount” to “2022 Minimum penalty amount.” DOT publishes this final rule to correct those errors.

Regulatory Analysis and Notices

DOT has determined that the regulatory reviews and analyses conducted in support of the January 6, 2023, final rule remain unchanged because of this final rule.

List of Subjects in 14 CFR Part 13

Administrative practice and procedure, Air transportation, Hazardous materials transportation, Investigations, Law enforcement, Penalties.

Accordingly, the Department of Transportation amends 14 CFR part 13 by making the following correcting amendments:

PART 13—INVESTIGATIVE AND ENFORCEMENT PROCEDURES

1. The authority citation for part 13 continues to read as follows:

Authority: 18 U.S.C. 6002; 28 U.S.C. 2461 note; 49 U.S.C. 106(g), 5121-5124, 40113-40114, 44103-44106, 44701-44704, 44709-44710, 44713, 44725, 44742, 44802 (note), 46101-46111, 46301, 46302 (for a violation of 49 U.S.C. 46504), 46304-46316, 46318-46320, 46501-46502, 46504, 46507, 47106, 47107, 47111, 47122, 47306, 47531-47532; 49 CFR 1.83.

2. Amend § 13.301 in paragraph (c), table 1, by revising the heading of the third column and the entry for “49 U.S.C. 5123(a)(3)” to read as follows:

§ 13.301 Inflation adjustments of civil monetary penalties.

* * * * *

(c) * * *

Table 1 to § 13.301—Minimum and Maximum Civil Monetary Penalty Amounts for Certain Violations
United States Code citation | Civil monetary penalty description | 2022 Minimum penalty amount | New adjusted minimum penalty amount for violations occurring on or after January 6, 2023 | 2022 Maximum penalty amount | New adjusted maximum penalty amount for violations occurring on or after January 6, 2023
* * * * * * *
49 U.S.C. 5123(a)(3) | Violation of hazardous materials transportation law relating to training | $540 | $582 | $89,678 | $96,624
* * * * * * *

Signed under authority provided by 28 U.S.C. 2461 note and 49 CFR 1.27 in Washington, DC, on January 27th, 2023.
John E. Putnam,
General Counsel, U.S. Department of Transportation.

[FR Doc. 2023-02153 Filed 2-1-23; 8:45 am]

BILLING CODE 4910-13-P